DEPARTMENT OF AGRICULTURE

Animal and Plant Health Inspection Service

9 CFR Part 3

[Docket No. APHIS-2012-0106]

Petition To Promulgate Standards for Bears Under the Animal Welfare Act Regulations

AGENCY: Animal and Plant Health Inspection Service, USDA.

ACTION: Notice of petition; reopening of comment period.

SUMMARY: We are reopening the comment period for a petition requesting that we amend the Animal Welfare Act regulations to add specific standards for the humane handling, care, treatment, and transportation of all species of bears held in captivity except polar bears, for which there are already standards. This action will allow interested persons additional time to prepare and submit comments.

DATES: The comment period for the notice published November 26, 2013 (78 FR 70515) is reopened. We will consider all comments that we receive on or before March 12, 2014.

ADDRESSES: You may submit comments by either of the following methods:

• Federal eRulemaking Portal: Go to http://www.regulations.gov/#!documentDetail;D=APHIS-2012-0106-0001.

• Postal Mail/Commercial Delivery: Send your comment to Docket No. APHIS-2012-0106, Regulatory Analysis and Development, PPD, APHIS, Station 3A-03.8, 4700 River Road Unit 118, Riverdale, MD 20737-1238.

Supporting documents and any comments we receive on this docket may be viewed at http://www.regulations.gov/#!docketDetail;D=APHIS-2012-0106 or in our reading room, located in Room 1141 of the USDA South Building, 14th Street and Independence Avenue SW., Washington, DC. Reading room hours are 8 a.m. to 4:30 p.m., Monday through Friday, except holidays. To be sure someone is there to help you, please call (202) 799-7039 before coming.

FOR FURTHER INFORMATION CONTACT: Dr. Barbara Kohn, DVM, Senior Staff Officer, USDA, APHIS, Animal Care, 4700 River Road Unit 84, Riverdale, MD 20737-1234; (301) 851-3751.

SUPPLEMENTARY INFORMATION:

Background

On November 26, 2013, the Animal and Plant Health Inspection Service published in the Federal Register (78 FR 70515-70516, Docket No. APHIS-2012-0106) a notice ¹ requesting comments on a petition from People for the Ethical Treatment of Animals requesting that we amend the Animal Welfare Act regulations to add specific standards for the humane handling, care, treatment, and transportation of all species of bears held in captivity except polar bears, for which there are already standards.

¹ To view the notice, supporting documents, and the comments we received, go to http://www.regulations.gov/#!docketDetail;D=APHIS-2012-0106.

Comments on the notice were required to be received on or before January 27, 2014. We are reopening the comment period on Docket No. APHIS-2012-0106 for an additional 30 days. This action will allow interested persons additional time to prepare and submit comments. We will also consider all comments received between January 28, 2014 (the day after the close of the original comment period) and the date of this notice.

We encourage the submission of scientific data, studies, or research to support your comments and position, including data or research that supports any industry or professional standards that pertain to the care of bears. We also invite data on the costs and benefits associated with any recommendations. We will consider all comments and recommendations we receive.

Authority: 7 U.S.C. 2131-2159; 7 CFR 2.22, 2.80, and 371.7.

Done in Washington, DC, this 3rd day of February 2014.
Kevin Shea,
Administrator, Animal and Plant Health Inspection Service.

[FR Doc. 2014-02756 Filed 2-7-14; 8:45 am]

BILLING CODE 3410-34-P